DEPARTMENT OF JUSTICE

Notice of Lodging of Proposed Consent Decree Under the Comprehensive Environmental Response, Compensation, and Liability Act

On December 6, 2022, the Department of Justice lodged a proposed consent decree with the United States District Court for the District of Puerto Rico in the lawsuit entitled United States v. Puerto Rico Industrial Development Company, Civil Action No. 3:15-cv-2328.

In that action, the United States sought, pursuant to the Comprehensive Environmental Response, Compensation, and Liability Act (“CERCLA”), 42 U.S.C. 9601, et seq., recovery of response costs regarding the Maunabo Groundwater Superfund Site in Maunabo, Puerto Rico (the “Site”). The proposed consent decree will require the Puerto Rico Industrial Development Company to reimburse the U.S. Environmental Protection Agency for $11 million of its past costs at the Site. The reimbursements are to be made in quarterly installments over seven years, with interest.

The publication of this notice opens a period for public comment on the proposed consent decree. Comments should be addressed to the Assistant Attorney General, Environment and Natural Resources Division, and should refer to United States v. Puerto Rico Industrial Development Company, Civil Action No. 3:15-cv-2328, D.J. Ref. No. 90-11-3-11397. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $3.25 (25 cents per page reproduction cost) payable to the United States Treasury.

Henry Friedman,
Assistant Section Chief, Environmental Enforcement Section, Environment and Natural Resources Division.

[FR Doc. 2022-26852 Filed 12-9-22; 8:45 am]

BILLING CODE 4410-15-P